DEPARTMENT OF HOMELAND SECURITY

Office of the Secretary

[Docket No. DHS-2013-0025]

Privacy Act of 1974; Department of Homeland Security/U.S. Citizenship and Immigration Services-014 Electronic Immigration System-1 Temporary Accounts and Draft Benefit Requests System of Records

AGENCY: Privacy Office, Department of Homeland Security.

ACTION: Notice of Privacy Act System of Records.

SUMMARY: In accordance with the Privacy Act of 1974, the Department of Homeland Security proposes to update and reissue a current Department of Homeland Security system of records titled, “Department of Homeland Security/U.S. Citizenship and Immigration Services-014 Electronic Immigration System-1 Temporary Accounts and Draft Benefit Requests System of Records.” This system of records allows the Department of Homeland Security/U.S. Citizenship and Immigration Services to collect and maintain records on an individual as he or she creates a temporary electronic account and/or drafts a benefit request for submission through the U.S. Citizenship and Immigration Services Electronic Immigration System. This notice updates this system of records to (1) include additions to the categories of individuals and categories of records and (2) reflect an approved retention schedule for temporary accounts and draft benefit requests. Additionally, this notice includes non-substantive changes to simplify the formatting and text of the previously published notices. This updated system will be included in the Department of Homeland Security's inventory of record systems.

Dates and Comments: Submit comments on or before May 6, 2013. This updated system will be effective May 6, 2013.

ADDRESSES: You may submit comments, identified by docket number DHS-2013-0025 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528.

Instructions: All submissions received must include the agency name and docket number for this rulemaking. All comments received will be posted without change to http://www.regulations.gov, including any personal information provided.

Docket: For access to the docket to read background documents or comments received, please visit http://www.regulations.gov.

FOR FURTHER INFORMATION CONTACT: For general questions, please contact: Donald K. Hawkins, (202) 272-8000, Privacy Officer, U.S. Citizenship and Immigration Services, 20 Massachusetts Avenue NW., Washington, DC 20529. For privacy questions, please contact: Jonathan R. Cantor, (202) 343-1717, Acting Chief Privacy Officer, Privacy Office, Department of Homeland Security, Washington, DC 20528.

SUPPLEMENTARY INFORMATION:

I. Background

In accordance with the Privacy Act of 1974, 5 U.S.C. 552a, the Department of Homeland Security (DHS) U.S. Citizenship and Immigration Services (USCIS) proposes to update and reissue a current DHS system of records titled, “DHS/USCIS-014 Electronic Immigration System-1 Temporary Accounts and Draft Benefit Requests System of Records” (November 15, 2011, 76 FR 70739).

USCIS is the component of DHS that oversees immigration benefit requests from foreign nationals seeking to enter, be admitted to, or currently residing in the United States. USCIS is transforming its operations by creating a new electronic environment known as USCIS Electronic Immigration System (USCIS ELIS), which allows individuals requesting USCIS benefits to create immigration accounts online and submit certain benefit requests. Applicants and petitioners (Applicants); co-applicants, beneficiaries, derivatives, dependents, or other persons on whose behalf a benefit request is made or whose immigration status may be derived because of a relationship to an Applicant (Co-Applicants); and their attorneys and representatives recognized by USCIS and/or accredited by the Board of Immigration Appeals (Representatives) may create individualized online accounts.

This System of Records Notice (SORN) addresses temporary data in USCIS ELIS. Temporary data includes draft account data provided by first-time Applicants in USCIS ELIS and draft benefit request data from all Applicants and Representatives.

This system of records is being updated and reissued to (1) include additions to the categories of individuals and categories of records, and (2) reflect an approved retention schedule for temporary accounts and draft benefit requests.

This update includes additions to the categories of individuals and records. Categories of individuals are being updated to include Interpreters and Sponsors to better reflect the ways USCIS ELIS captures data and to include data collected as additional benefit types are incorporated into USCIS ELIS.

Categories of records for Applicants and Co-Applicants are being updated to include:

• Phone Extension;

• Preferred Contact Method;

• Deceased Date;

• Nationality;

• Province of Birth;

• Marital Status;

• Fax Numbers;

• Notices and Communications;

• Other Immigration-Related Identification Numbers including:

○ Immigration and Customs Enforcement (ICE) Student and Exchange Visitor Number; and

○ USCIS E-Verify Company Identification Number;

• Travel History;

• Professional Accreditation Information;

• Tax Records;

• Marriage Certificates;

• Divorce Certificates;

• Explanatory Statements;

• Unsolicited information submitted voluntarily in support of a benefit request;

• Physical Description;

• Relationships to Sponsors, Representatives, Preparers, Co-Applicants, and other Applicants; and

• Signature.

Categories of records for Representatives are being updated to include:

• Signature.

Categories of Records for Interpreters are being updated to include:

• Name;

• Organization;

• Physical and Mailing Addresses;

• Phone and Fax Numbers;

• Whether the Interpreter is Paid/Not Paid; and

• Relationship to Applicant.

Categories of records for Preparers and Interpreters are being updated to include:

• Email Address;

• Business State ID Number; and

• Signature.

Categories of records about Sponsors are being updated to include:

• Full Name;

• Gender;

• Physical and Mailing Addresses;

• Phone and Fax Numbers;

• Country of Domicile;

• Date of Birth;

• City of Birth;

• State of Birth;

• Province of Birth;

• Country of Birth;

• Citizenship Information;

• Social Security Number (SSN);

• Alien Registration Number (A-Number);

• Employment Information;

• Financial Information;

• Position and Relationship to an Organization;

• Family Relationships and Relationship Practices; and

• Signature.

This updated notice includes a retention schedule approved by National Archives and Records Administration (NARA) for temporary accounts and draft benefit requests. Temporary account and draft benefit request data will be deleted 30 days after an individual begins, but fails to complete, the account registration and/or benefit submission process.

Because USCIS ELIS collects this information before an Applicant or Representative submits a benefit request, USCIS does not have an official need-to-know the data in a draft benefit request. USCIS separates temporary account and draft benefit request data from permanent information in USCIS ELIS to prevent USCIS personnel, aside from USCIS ELIS System Administrators as part of their system maintenance duties, from viewing temporary data until the Applicant or Representative submits the benefit request.

When an Applicant creates a USCIS ELIS account, USCIS ELIS classifies that account as temporary until the Applicant submits a benefit request. If an Applicant does not begin drafting a benefit request within 30 days of opening the temporary account, USCIS ELIS deletes the temporary account. USCIS ELIS converts the account from temporary to permanent once an Applicant submits a benefit request in USCIS ELIS. USCIS ELIS processes permanent accounts in accordance with the Electronic Immigration System-2 Account and Case Management SORN and Electronic Immigration System-3 Automated Background Functions SORN.

Once an Applicant or Representative begins drafting a benefit request, he or she will have 30 days to submit it. If an Applicant with a temporary account does not submit a benefit request within 30 days of starting a draft benefit request, USCIS ELIS deletes the temporary account and all draft benefit request data. If the Applicant with a permanent account or the Representative does not submit the benefit request within 30 days, USCIS ELIS will delete the draft benefit request but retain the permanent accounts. When an Applicant or Representative formally submits a benefit request to USCIS, the information will be retained and used according to the Electronic Immigration System-2 Account and Case Management SORN and Electronic Immigration System-3 Automated Background Functions SORN.

USCIS ensures that all USCIS ELIS employees receive training and agree to USCIS-wide system rules of behavior before being granted access. USCIS provides security awareness training to all information system users (including managers, senior executives, and contractors) as part of initial training for new users, when required by system changes, and annually thereafter. DHS personnel and contractors with significant security responsibilities (e.g., adjudicators and system administrators) initially receive specialized training on USCIS ELIS functionality that is specific to their security responsibilities prior to being granted access to DHS systems. Thereafter, DHS personnel and contractors must complete annual refresher training.

USCIS collects, uses, and maintains temporary account and draft benefit request information pursuant to the Immigration and Nationality Act of 1952 (INA), Public Law No. 82-414, sections 101 and 103, as amended. This updated system will be effective May 6, 2013.

II. Privacy Act

The Privacy Act embodies fair information practice principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. As a matter of policy, DHS extends administrative Privacy Act protections to all individuals when systems of records maintain information on U.S. citizens, lawful permanent residents, and visitors.

Below is the description of the DHS/USCIS-014 Electronic Immigration System-1 Temporary Accounts and Draft Benefit Requests System of Records.

In accordance with 5 U.S.C. 552a(r), DHS has provided a report of this system of records to the Office of Management and Budget and to Congress.

System of Records

DHS/USCIS-014

System name:

DHS/USCIS-014 Electronic Immigration System-1 Temporary Accounts and Draft Benefit Requests System of Records

Security classification:

Unclassified.

System location:

Records are maintained at the USCIS Headquarters in Washington, DC and in USCIS service centers and field offices.

Categories of individuals covered by the system:

USCIS ELIS Temporary Accounts and Draft Benefit Requests stores and/or uses information about individuals who apply or petition for or receive benefits under the INA. These individuals include: Applicants and petitioners (Applicants); co-applicants, beneficiaries, derivatives, dependents, or other persons on whose behalf a benefit request is made or whose immigration status may be derived because of a relationship to an Applicant (Co-Applicants); members of organizations petitioning for benefits under the INA on behalf of, or contributing to, the financial support of an Applicant or Co-Applicant (Sponsors); attorneys and representatives recognized by USCIS and/or accredited by the Board of Immigration Appeals (Representatives); Interpreters; and individuals who assist in the preparation of the benefit request (Preparers).

Categories of records in the system:

Temporary account registration information about Applicants and Co-Applicants may include:

• Email address;

• Password;

• Challenge questions and answers;

• Telephone Number;

• Phone Extension;

• Preferred Contact Method;

Temporary account information about Applicants and Co-Applicants may include:

• A-Number;

• Family Name;

• Given Name;

• Middle Name;

• Alias(es);

• Physical and mailing addresses:

○ Address;

○ Unit Number;

○ City;

○ State;

○ ZIP Code;

○ Postal Code;

○ U.S. County;

○ Province;

○ Country;

• Date of Birth;

• Deceased Date;

• Nationality;

• Country of Citizenship;

• City of Birth;

• State of Birth;

• Province of Birth;

• Country of Birth;

• Gender;

• Marital Status;

• Military Status;

• Fax Numbers;

• Immigration Status;

• Government-issued Identification (e.g. passport, driver's license):

○ Document Type;

○ Issuing Organization;

○ Document Number;

○ Expiration Date;

• Benefit Requested;

• Notices and Communications, including:

○ Account Update Notifications;

• IP Address and Browser Information as part of the E-Signature.

Benefit-specific eligibility information about Applicants and Co-Applicants may include:

• Other Immigration-Related Identification Numbers (e.g., U.S. Department of State-Issued Personal Identification Number, ICE Student and Exchange Visitor Number, USCIS E-Verify Company Identification Number);

• Arrival/Departure Information;

• Family Relationships (e.g., parent, spouse, sibling, child, other dependents) and Relationship Practices (e.g., polygamy, custody, guardianship);

• USCIS Receipt/Case Number;

• Personal Background Information (e.g., involvement with national security threats, criminal offenses, Communist party, torture, genocide, killing, injuring, forced sexual contact, limiting or denying others religious beliefs; service in military or other armed groups; work in penal or detention systems, weapons distribution, combat training);

• Health Information (e.g., vaccinations, referrals, communicable disease, physical or mental disorder, prostitution, drug or alcohol abuse);

• Travel History;

• Education History;

• Work History;

• Professional Accreditation Information;

• Financial Information (income, expenses, scholarships, savings, assets, property, financial support, supporter information, life insurance, debts, encumbrances, tax records);

• SSN;

• Supporting documentation as necessary (e.g., birth, marriage, and/or divorce certificates, appeals or motions to reopen or reconsider decisions, explanatory statements, and unsolicited information submitted voluntarily by the Applicants or Co-Applicants in support of a benefit request);

• Physical Description (e.g., height, weight, eye color, hair color, identifying marks like tattoos or birthmarks);

• Criminal Records;

• Relationships to Sponsors, Representatives, Preparers, Co-Applicants and other Applicants;

• Signature (electronic or scanned physical signature).

Information about Sponsors may include:

• Full Name;

• Gender;

• Physical and Mailing Addresses:

○ Address;

○ Unit Number;

○ City;

○ State;

○ ZIP Code;

○ Postal Code;

○ U.S. County;

○ Province;

○ Country;

• Phone and Fax Numbers;

• Country of Domicile;

• Date of Birth;

• City of Birth;

• State of Birth;

• Province of Birth;

• Country of Birth;

• Citizenship Information;

• SSN;

• A-Number;

• Employment Information;

• Financial Information (e.g., income, expenses, scholarships, savings, assets, property, financial support, supporter information, life insurance, debts, encumbrances, tax records);

• Position and Relationship to an Organization (e.g., manager of a company seeking formal recognition by USCIS);

• Family Relationships (e.g., parent, spouse, sibling, child, other dependents) and Relationship Practices (e.g., polygamy, custody, guardianship);

• Signature (electronic or scanned physical signature).

Information about Representatives may include:

• Name;

• Law Firm/Recognized Organization;

• Physical and Mailing Addresses;

• Phone and Fax Numbers;

• Email Address;

• Attorney Bar Card Number or Equivalent;

• Bar Membership;

• Accreditation Date;

• Board of Immigration Appeals Representative Accreditation;

• Expiration Date;

• Law Practice Restriction Explanation;

• Signature (electronic or scanned physical signature).

Information about Preparers and Interpreters may include:

• Full Name;

• Organization;

• Business State ID Number;

• Physical and Mailing Addresses:

○ Address;

○ Unit Number;

○ City;

○ State;

○ ZIP Code;

○ Postal Code;

○ U.S. County;

○ Province;

○ Country;

• Email Address;

• Phone and Fax Numbers;

• Paid/Not Paid (i.e., whether the Preparer or Interpreter was paid for assisting the Applicant or Sponsor in completing or submitting the benefit request);

• Relationship to Applicant;

• Signature (electronic or scanned physical signature).

Authority for maintenance of the system:

The Immigration and Nationality Act of 1952, Public Law 82-414, sections 101 and 103, as amended.

Purpose(s):

The purpose of this system is to provide an Applicant with a temporary account so that he or she may submit a benefit request through USCIS ELIS for the first time. USCIS ELIS collects draft benefit request information to assist the Applicant or Representative in providing all of the information necessary to request a benefit. If a first-time Applicant does not formally submit a benefit request within 30 days of opening the temporary account or initiating the draft benefit request, the information will be deleted. If an Applicant or Representative formally submits a benefit request within the 30-day window, USCIS converts the temporary account to a permanent USCIS ELIS account and retains the information according to the USCIS ELIS Account and Case Management SORN and USCIS ELIS Automated Background Functions SORN.

Routine uses of records maintained in the system, including categories of users and the purposes of such uses:

In addition to those disclosures generally permitted under 5 U.S.C. § 552a(b) of the Privacy Act, all or a portion of the records or information contained in this system may be disclosed outside DHS as a routine use pursuant to 5 U.S.C. § 552a(b)(3) as follows:

A. To appropriate agencies, entities, and persons when:

1. DHS suspects or has confirmed that the security or confidentiality of information in the system of records has been compromised;

2. DHS has determined that as a result of the suspected or confirmed compromise there is a risk of identity theft or fraud, harm to economic or property interests, harm to an individual, or harm to the security or integrity of this system or other systems or programs (whether maintained by DHS or another agency or entity) that relies upon the compromised information; and

3. The disclosure made to such agencies, entities, and/or persons is reasonably necessary to assist in connection with DHS's efforts to respond to the suspected or confirmed compromise and prevent, minimize, or remedy such harm.

B. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

If a benefit request has been submitted to USCIS within 30 days of initiation, the information will become permanent and shared according to the routine uses listed in the Electronic Immigration System-2 Account and Case Management SORN and Electronic Immigration System-3 Automated Background Functions SORN in order to maintain USCIS ELIS accounts and determine eligibility for requested benefits.

Disclosure to consumer reporting agencies:

None.

Policies and practices for storing, retrieving, accessing, retaining, and disposing of records in the system:

Storage:

Records in this system are stored electronically in secure facilities. The records are stored on magnetic disc, tape, and/or digital media to maintain a real-time copy of the data for disaster recovery purposes. Real-time copies of data are deleted at the same time as the original data.

Retrievability:

Records may be retrieved by any of the data elements listed above or by a combination thereof.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

USCIS retains and disposes of temporary account and draft benefit request data in accordance with NARA approved schedule N1-566-11-02. After an Applicant registers for a USCIS ELIS account, the Applicant must begin drafting a benefit request within 30 days. If the Applicant does not begin drafting a benefit request within 30 days of creating a temporary account, USCIS ELIS considers the account abandoned and deletes the temporary account. If an Applicant with a temporary account does not submit a benefit request within 30 days of starting a draft benefit request, USCIS ELIS deletes the temporary account and all draft benefit request data. USCIS ELIS deletes all draft benefit request information 30 days after an Applicant or Representative begins, but fails to complete, the benefit submission process.

If an Applicant or Representative submits a benefit request within the 30-day window, USCIS retains the permanent account and benefit request information according to the Electronic Immigration System-2 Account and Case Management SORN and Electronic Immigration System-3 Automated Background Functions SORN.

System Manager and address:

The DHS system manager is the Chief, Office of Transformation Coordination, U.S. Citizenship and Immigration Services, Department of Homeland Security, 633 3rd Street NW., Washington, DC 20529.

Notification procedure:

Individuals seeking notification of and access to any record contained in this system of records, or seeking to contest its content, may log in to USCIS ELIS to amend their information within the 30-day window. If the individual submits a benefit request, the information will still be available by logging in to the individual's USCIS ELIS account and may be amended through the processes described in the USCIS ELIS Account and Case Management SORN and USCIS ELIS Automated Background Functions SORN.

Because of the temporary nature of this data, records will not likely be available for FOIA requests. However, individuals seeking notification of and access to any record contained in this system of records, or seeking to contest its content, may submit a request in writing to the National Records Center (NRC) FOIA/PA Office, P.O. Box 648010, Lee's Summit, MO 64064-8010. NRC's contact information can be found at http://www.dhs.gov/foia under “Contacts.” If an individual believes that more than one component maintains Privacy Act records concerning him or her, the individual may submit the request to the Chief Privacy Officer and Chief Freedom of Information Act Officer, Department of Homeland Security, 245 Murray Drive SW., Building 410, STOP-0655, Washington, DC 20528.

When seeking records about yourself from this system of records or any other Departmental system of records, your request must conform with the Privacy Act regulations set forth in 6 C.F.R. Part 5. You must first verify your identity, meaning you must provide your full name, current address, and date and place of birth. You must sign your request, and your signature must either notarized or submitted under 28 U.S.C. § 1746, a law that permits statements to be made under penalty of perjury as a substitute for notarization. While no specific form is required, you may obtain forms for this purpose from the Chief Privacy Officer and Chief Freedom of Information Act Officer, http://www.dhs.gov/foia or 1-866-431-0486. In addition, you should:

• Explain why you believe the Department would have information on you;

• Identify which component(s) of the Department you believe may have the information about you;

• Specify when you believe the records would have been created; and

• Provide any other information that will help the FOIA staff determine which DHS component agency may have responsive records.

If your request is seeking records pertaining to another living individual, you must include a statement from that individual certifying his/her agreement for you to access his/her records.

Without the above information, the component(s) may not be able to conduct an effective search, and the request may be denied due to lack of specificity or lack of compliance with applicable regulations.

Record access procedures:

See “Notification procedure” above.

Contesting record procedures:

See “Notification procedure” above.

Record source categories:

Records are obtained from the Applicant, the primary Applicant for a Co-Applicant, Sponsor, his or her Representative, Preparer, or Interpreter.

Exemptions claimed for the system:

None.

Dated: March 22, 2013.
Jonathan R. Cantor,
Acting Chief Privacy Officer, Department of Homeland Security.

[FR Doc. 2013-07770 Filed 4-4-13; 8:45 am]

BILLING CODE 9111-97-P